NATIONAL CREDIT UNION ADMINISTRATION

Sunshine Act Meeting

TIME AND DATE: 2 p.m., Thursday, February 3, 2000.

PLACE: Board Room, 7th Floor, Room 7047, 1775 Duke Street, Alexandria, VA 22314-3428.

STATUS: Open.

MATTERS TO BE CONSIDERED: 1. Proposed Rule: Part 702, NCUA's Rules and Regulations, Prompt Corrective Action—Definition of Complex Credit Union and Risk-Based Net Worth Standards.

2. Final Rule: Parts 702, 741 and 747, NCUA's Rules and Regulations, Prompt Corrective Action.

RECESS: 2:45 p.m.

TIME AND DATE: 3 p.m., Thursday, February 3, 2000.

PLACE: Board Room, 7th Floor, Room 7047, 1775 Duke Street, Alexandria, VA 22314-3428.

STATUS: Closed.

MATTERS TO BE CONSIDERED: 1. Two (2) Administrative Actions under Section 206 of the Federal Credit Union Act. Closed pursuant to exemptions (8), (9)(A)(ii) and (9)(B).

2. Administrative Action under Part 703 of NCUA's Rules and Regulations. Closed pursuant to exemptions (8), (9)(A)(ii) and (9)(B).

3. Two (2) Personnel Actions. Closed pursuant to exemptions (2), (5), (6), (7), and (9)(B).

FOR FURTHER INFORMATION CONTACT: Becky Baker, Secretary of the Board, Telephone (703) 518-6304.

Robert M. Fenner,
Acting Secretary of the Board.

[FR Doc. 00-2216 Filed 1-28-00; 11:39 am]

BILLING CODE 7535-01-M